DEPARTMENT OF HEALTH AND HUMAN SERVICES

Centers for Medicare & Medicaid Services

[Document Identifier: CMS-10520]

Agency Information Collection Activities: Submission for OMB Review; Comment Request

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by June 23, 2014:

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 or Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New Collection (Request for a new control number); Title of Information Collection: Marketplace Quality Standards; Use: Section 1311(c)(3) of the Affordable Care Act directs the Secretary to develop a rating system for qualified health plans (QHPs) on the relative basis of quality and price and requires Marketplaces to display this quality rating information on their Web sites. Section 1311(c)(4) of the Affordable Care Act requires the Secretary to develop an enrollee satisfaction survey system (ESS) that assesses consumer experience with QHPs (with more than 500 enrollees in the previous year) offered through a Marketplace and requires Marketplaces to display enrollee satisfaction information to allow individuals to easily compare enrollee satisfaction levels between comparable plans. Section 1311(h) requires QHPs to contract with certain hospitals that meet specific patient safety and health care quality standards beginning January 1, 2015. The collection of information from QHP issuers is necessary to implement these quality standards and to provide adequate and timely health care quality information to consumers, regulators and Marketplaces. Specifically, for implementation and reporting for the Federal Quality Rating System (QRS) and for the ESS, the collection, validation and submission of validated data is required as outlined in § 156.1120 and § 156.1125. In addition, QHP issuers must demonstrate compliance with the patient safety standards outlined in § 156.1110 which involves associated information collection, recordkeeping and disclosure requirements. It is also necessary to collect information per § 156.1105 to appropriately monitor and provide a process for survey vendors to appeal HHS' decision to not approve ESS vendor applications.

Form Number: CMS-10520 (OMB control number: 0938-New); Frequency: Annual; Affected Public: Individuals; Private Sector—Business or other for-profit and not-for-profit institutions; Number of Respondents: 620; Total Annual Responses: 620; Total Annual Hours: 980,995. (For policy questions regarding this collection contact Nidhi Singh Shah at 301-492-5110.)

Dated: May 20, 2014.
Martique Jones,
Deputy Director, Regulations Development Group, Office of Strategic Operations and Regulatory Affairs.

[FR Doc. 2014-11948 Filed 5-22-14; 8:45 am]

BILLING CODE 4120-01-P